DEPARTMENT OF ENERGY

Federal Energy Regulatory Commission

Combined Notice of Filings # 1 March 7, 2007.

Take notice that the Commission received the following electric corporate filings:

Docket Numbers: EC07-64-000.

Applicants: RC Cape May Holdings, LLC; EIF B.L. England, LLC.

Description: RC Cape May Holdings, LLC and EIF BL England, LLC submit a joint application for authorization under section 202 of the FPA.

Filed Date: 3/2/2007.

Accession Number: 20070306-0235.

Comment Date: 5 p.m. Eastern Time on Friday, March 23, 2007.

Take notice that the Commission received the following electric rate filings:

Docket Numbers: ER98-1643-010.

Applicants: Portland General Electric Company.

Description: Portland General Electric Co submits a notice of change in status regarding the construction of a 400 MW natural gas-fired combined cycle combustion turbine plant pursuant to FERC's order issued 2/10/05.

Filed Date: 3/1/2007.

Accession Number: 20070306-0214.

Comment Date: 5 p.m. Eastern Time on Thursday, March 22, 2007.

Docket Numbers: ER00-3562-004.

Applicants: Calpine Energy Services L.P.

Description: Calpine Energy Services, LP submits an amendment to its Rate Schedule FERC 1, Revised Sheets 3, 4, and 5 of the Second Revised Rate Schedule 1.

Filed Date: 3/2/2007.

Accession Number: 20070306-0140.

Comment Date: 5 p.m. Eastern Time on Wednesday, March 14, 2007.

Docket Numbers: ER01-2214-008.

Applicants: Entergy Services, Inc.

Description: Entergy Services, Inc submits a refund report related to required refunds for penalty revenues collected pursuant to Schedule 4 of its OATT.

Filed Date: 3/1/2007.

Accession Number: 20070306-0274.

Comment Date: 5 p.m. Eastern Time on Thursday, March 22, 2007.

Docket Numbers: ER01-2217-006.

Applicants: Sunrise Power Company.

Description: Sunrise Power Company LLC submits a notice of change in status to inform the Commission of its pending indirect affiliation with LS Power Development, LLC and its jurisdictional holding company etc.

Filed Date: 2/28/2007.

Accession Number: 20070306-0209.

Comment Date: 5 p.m. Eastern Time on Wednesday, March 21, 2007.

Docket Numbers: ER04-925-015.

Applicants: Merrill Lynch Commodities, Inc.

Description: Merrill Lynch Commodities, Inc submits a non-material change in the characteristics relied upon in granting them market-based rate authorization.

Filed Date: 3/2/2007.

Accession Number: 20070306-0203.

Comment Date: 5 p.m. Eastern Time on Friday, March 23, 2007.

Docket Numbers: ER06-313-003.

Applicants: Midwest Independent Transmission System Operator, Inc.

Description: Midwest Independent Transmission System Operator, Inc submits a compliance filing pursuant to FERC's order dated 2/7/06.

Filed Date: 3/1/2007.

Accession Number: 20070306-0208.

Comment Date: 5 p.m. Eastern Time on Thursday, March 22, 2007.

Docket Numbers: ER06-451-020.

Applicants: Southwest Power Pool, Inc.

Description: Southwest Power Pool, Inc submits its Substitute Original Sheet 756 to FERC Electric Tariff, Fourth Revised Volume 1 pursuant to FERC's 1/31/07 letter order.

Filed Date: 3/2/2007.

Accession Number: 20070306-0205.

Comment Date: 5 p.m. Eastern Time on Friday, March 23, 2007.

Docket Numbers: ER06-731-005.

Applicants: Midwest Independent Transmission System Operator, Inc.

Description: Midwest Independent Transmission System Operator, Inc submits amendments to its 1/22/07 filing regarding the Broad Constrained Area Mitigation pursuant to FERC's 12/21/06 Order.

Filed Date: 3/2/2007.

Accession Number: 20070306-0206.

Comment Date: 5 p.m. Eastern Time on Friday, March 23, 2007.

Docket Numbers: ER06-1463-003.

Applicants: The Empire District Electric Company.

Description: The Empire District Electric Company submits First Revised Sheet 35A to FERC Electric Tariff, Original Volume 2 in compliance with the Commission's 1/31/06 Order.

Filed Date: 3/2/2007.

Accession Number: 20070306-0201.

Comment Date: 5 p.m. Eastern Time on Friday, March 23, 2007.

Docket Numbers: ER06-1471-002.

Applicants: Westar Energy, Inc.

Description: Westar Energy, Inc submits its Sub First Revised Sheets 134A-134B, Schedule 4A (Reserve Sharing Energy Charges) of its FERC Electric Tariff, Second Revised Volume 5.

Filed Date: 3/2/2007.

Accession Number: 20070306-0281.

Comment Date: 5 p.m. Eastern Time on Friday, March 23, 2007.

Docket Numbers: ER07-319-001.

Applicants: Southwest Power Pool, Inc.

Description: Southwest Power Pool, Inc submits revisions to its OATT pursuant to the Commission's order issued on 1/31/07.

Filed Date: 3/2/2007.

Accession Number: 20070306-0202.

Comment Date: 5 p.m. Eastern Time on Friday, March 23, 2007.

Docket Numbers: ER07-550-001.

Applicants: Midwest Independent Transmission System.

Description: Midwest Independent Transmission System Operator, Inc submits an Addendum to its electric tariff filing to reflect Ancillary Services Markets filed on 2/15/07 under ER07-550.

Filed Date: 3/1/2007.

Accession Number: 20070306-0215.

Comment Date: 5 p.m. Eastern Time on Friday, March 23, 2007.

Docket Numbers: ER07-552-001.

Applicants: Hudson Bay Energy Solutions LLC.

Description: Hudson Bay Energy Solutions LLC submits supplemental information in support of its application filed on 2/16/07.

Filed Date: 3/1/2007.

Accession Number: 20070306-0207.

Comment Date: 5 p.m. Eastern Time on Monday, March 12, 2007.

Docket Numbers: ER07-582-000.

Applicants: Pacific Gas and Electric Company.

Description: Pacific Gas and Electric Company submits Second Revised Schedule 136, Form of Distribution Facilities Agreement—Electric Standby Service etc.

Filed Date: 3/2/2007.

Accession Number: 20070305-0188.

Comment Date: 5 p.m. Eastern Time on Friday, March 23, 2007.

Docket Numbers: ER07-585-000.

Applicants: Niagara Generation, LLC.

Description: Niagara Generation, LLC submits a change in status with respect to the characteristics upon which the Commission relied in granting its market-based rate authority and a notice of succession.

Filed Date: 3/2/2007.

Accession Number: 20070306-0138.

Comment Date: 5 p.m. Eastern Time on Friday, March 23, 2007.

Docket Numbers: ER07-588-000.

Applicants: Bangor Hydro-Electric Company.

Description: Bangor Hydro-Electric Company submits revised tariff sheets requesting FERC's approval of its proposed accounting treatment of certain deferred interim regional transmission organization formation costs.

Filed Date: 3/2/2007.

Accession Number: 20070306-0213.

Comment Date: 5 p.m. Eastern Time on Friday, March 23, 2007.

Docket Numbers: ER07-589-000.

Applicants: Citigroup Energy Canada ULC.

Description: Citigroup Energy Canada ULC submits a petition for order accepting market-based rate schedule for filing and granting waivers and blanket approvals.

Filed Date: 3/2/2007.

Accession Number: 20070306-0210.

Comment Date: 5 p.m. Eastern Time on Friday, March 23, 2007.

Docket Numbers: ER07-591-000.

Applicants: Exel Power Sources, LLC.

Description: Exel Power Sources, LLC submits a Petition for acceptance of initial tariff, waivers and blanket authority.

Filed Date: 2/28/2007.

Accession Number: 20070306-0211.

Comment Date: 5 p.m. Eastern Time on Wednesday, March 21, 2007.

Docket Numbers: ER07-592-000.

Applicants: New York Independent System Operator, Inc.

Description: New York Independent System Operator, Inc submits two proposed modifications to the Standard Large Facility Interconnection Procedures contained in Attachment X to the NYISO OATT.

Filed Date: 3/2/2007.

Accession Number: 20070306-0218.

Comment Date: 5 p.m. Eastern Time on Friday, March 23, 2007.

Docket Numbers: ER07-593-000.

Applicants: New England Power Pool.

Description: New England Power Pool Participants Committee submits counterpart signature pages of the New England Power Pool Agreement dated as of September 1, 1971 etc.

Filed Date: 2/28/2007.

Accession Number: 20070306-0217.

Comment Date: 5 p.m. Eastern Time on Wednesday, March 21, 2007.

Docket Numbers: ER07-595-000.

Applicants: NSTAR Electric Company.

Description: NSTAR Electric Company submits a First Amendment to the Distribution Services Agreement w/ Massachusetts Bay Transportation Authority and a Second Amendment to the Interconnection Agreement etc.

Filed Date: 3/2/2007.

Accession Number: 20070306-0204.

Comment Date: 5 p.m. Eastern Time on Friday, March 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-4494 Filed 3-12-07; 8:45 am]

BILLING CODE 6717-01-P